DEPARTMENT OF HEALTH AND HUMAN SERVICES

Notice of Intent To Award a Single Source Non-Competing Continuation Cooperative Agreement to Amputee Coalition

AGENCY: Administration for Community Living, HHS.

SUMMARY: The Administration for Community Living (ACL) is proud to announce the Center for Improved Health of Persons with Limb Loss (Limb Loss Program) is moving to ACL as a result of the 2015 budget recently signed by President Obama.

The Limb Loss Program supports a national resource center and related activities that provides comprehensive information and resources to assist individuals and families dealing with Limb Loss. The Limb Loss Program currently operates through a cooperative agreement between the Amputee Coalition and the U.S. Department of Health and Human Services (HHS) Centers for Disease Control and Prevention (CDC). ACL will be working with the CDC on transitioning the program to ACL.

Program Name: Limb Loss Program

Award Amount: $2,730,000

Project Period: 4/1/2015 to 3/31/2016

Award Type: Cooperative Agreement

Statutory Authority: This program is authorized under Section 317 of the Public Health Service Act (42 U.S.C. 247(b-4)); Consolidated and Further Continuing Appropriations Act, 2015, Public Law 113-235 (Dec. 16, 2014).

Catalog of Federal Domestic Assistance (CFDA) Number: 93.325 Discretionary Projects

DATES: Estimated Project Period—April 1, 2015 through March 31, 2016.

I. Program Description

The purpose of this cooperative agreement is to continue existing activities to promote health, wellness and the adoption of healthy behaviors with the objective of preventing and/or reducing chronic conditions associated with limb loss. The grantee will continue to use both traditional and innovative approaches that will educate and inform people with disabilities, their family members, health care providers, policy makers, community members, and the general public.

Justification: The Limb Loss Program currently operates through a cooperative agreement between the Amputee Coalition and the U.S. Department of Health and Human Services (HHS) Centers for Disease Control and Prevention (CDC). ACL will be working with the CDC on transitioning the program to ACL. To ensure uninterrupted continuation of the grant goals and objectives, ACL plans to issue a one year non-competing award to the incumbent Limb Loss Program grantee, Amputee Coalition.

II. Agency Contact

For further information or comments regarding this action, contact Ophelia M. McLain, U.S. Department of Health and Human Services, Administration for Community Living, Administration on Intellectual and Developmental Disabilities, Office of Innovation, One Massachusetts Avenue NW., Washington, DC 20001; telephone (202) 690-7025; fax (202) 357-3560; email Ophelia.McLain@acl.hhs.gov.

Dated: February 26, 2015.
Kathy Greenlee,
Administrator and Assistant Secretary for Aging.

[FR Doc. 2015-04460 Filed 3-3-15; 8:45 am]

BILLING CODE 4154-01-P